DEPARTMENT OF THE TREASURY

Open Meeting of the President's Advisory Council on Financial Capability for Young Americans

AGENCY: Department of the Treasury.

ACTION: Notice of meeting.

SUMMARY: The President's Advisory Council on Financial Capability for Young Americans (Council) will convene for an open meeting on March 10, 2014, at the Department of the Treasury, 1500 Pennsylvania Avenue NW., Washington DC, beginning at 9:00 a.m. EST. The meeting will be open to the public. The Council will: (1) Receive a report from the Executive Director on the recommendations of the predecessor President's Advisory Council on Financial Capability and the Financial Literacy and Education Commission; (2) discuss proposed subcommittees and council agenda. Time will be allotted for members of the public, who may make up to one (1) minute of comments before the Council. If you are interested in making comments, please request time when you register. Time slots will be subject to time available.

DATES: The meeting will be held on March 10, 2014 at 9:00 a.m. Eastern Time.

Submission of Written Statements: The public is invited to submit written statements to the Council. Written statements should be sent by any one of the following methods:

Electronic Statements

Email: pacfcya@treasury.gov; or

Paper Statements

Send paper statements to the Department of the Treasury, Office of Consumer Policy, Main Treasury Building, 1500 Pennsylvania Avenue NW., Washington DC, 20220.

In general, the Department will make all statements available in their original format, including any business or personal information provided such as names, addresses, email addresses, or telephone numbers, for public inspection and photocopying in the Department's library located at Treasury Department Annex, 1500 Pennsylvania Avenue NW., Washington DC, 20220. The library is open on official business days between the hours of 10:00 a.m. and 5:00 p.m. You can make an appointment to inspect statements by calling (202) 622-0990. All statements received, including attachments and other supporting materials, are part of the public record and subject to public disclosure. You should only submit information that you wish to make publicly available.

FOR FURTHER INFORMATION CONTACT: Louisa Quittman, Director, Financial Education, Office of Consumer Policy, Department of the Treasury, 1500 Pennsylvania Avenue NW., Washington DC, 20220, at (202) 622-5770 or pacfcya@treasury.gov.

SUPPLEMENTARY INFORMATION: On June 25, 2013, the President signed Executive Order 13646, creating the Council to help build the financial capability of young people from an early age, in schools, communities and the workplace. Understanding financial matters and making informed financial decisions help contribute to financial stability. The Council is composed of two ex-officio Federal officials and 22 non-governmental members appointed by the President with relevant backgrounds, such as financial services, consumer protection, financial access, and education. The Director of the Consumer Financial Protection Bureau has also been invited to participate as a member of the Council. The role of the Council is to advise the President and the Secretary of the Treasury on means to promote and enhance the financial capability of young Americans. In accordance with section 10(a) of the Federal Advisory Committee Act, 5 U.S.C. App. 2 and the regulations thereunder, Louisa Quittman, Designated Federal Officer of the Council, has ordered publication of this notice that the Council will convene its first meeting on March 10, 2014, at the Department of Treasury, 1500 Pennsylvania Avenue NW, Washington DC, beginning at 9:00 a.m. EST. The meeting will be open to the public. Members of the public who plan to attend the meeting must register in advance. To register, please go to www.treasury.gov, click on Resource Center, then Office of Consumer Policy, and then on the President's Advisory Council on Financial Capability for Young Americans by 5:00 p.m. EST on March 3, 2014. To register, attendees will need to provide a full name, date of birth and Social Security Number. For entry into the building on the date of the meeting, attendees must present a government-issued ID, such as a driver's license or passport, which includes a photo. The purpose of the meeting is to receive a report from the Executive Director on the recommendations of the predecessor President's Advisory Council on Financial Capability and the Financial Literacy and Education Commission and discuss proposed subcommittees and council agenda. Time will be allotted for members of the public, who may make up to one (1) minute of comments before the Council. Due to the significant logistical difficulties of appointing and convening the members of the PACFCYA, the meeting has been scheduled with less than 15 days notice, (see 41 CFR 102-3.150(b)).

David G. Clunie,
Acting Executive Secretary, U.S. Department of the Treasury.

[FR Doc. 2014-03926 Filed 2-24-14; 8:45 am]

BILLING CODE 4810-25-P